DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 25, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: School Meals Operations Study: Evaluation of the School-based Child Nutrition Programs.

OMB Control Number: 0584-0607.

Summary of Collection: FNS administers the school-based Child Nutrition (CN) Programs (i.e., the school meal programs) in partnership with States and local SFAs. Section 28(a) of the Richard B. Russell National School Lunch Act authorizes the USDA Secretary to conduct annual national performance assessments of the school meal programs. FNS plans to conduct this annual assessment through the SMO Study in SY 2023-2024. This notice covers the fourth year of the SMO Study, which will collect data from State and local agencies on the CN COVID-19 waivers as well as data on state and local CN Program operations during SY 2022-2023. Data collection will occur in SY 2023-2024.

Need and Use of the Information: The goal of data collection for the SMO Study is to respond to annual research questions on the following topics: (1) school participation, (2) student participation, (3) meal counting, (4) financial management, and (5) program integrity. This revision covers data collection for one school year, with revisions of surveys and administrative data collection instruments from previous years.

1. General descriptive data on the characteristics of CN Programs to inform the budget process and answer questions about topics of current policy interest;

2. Data on Program operations to identify potential topics for training and technical assistance for SFAs and State agencies (SAs) responsible for administering the CN Programs;

3. Administrative data to identify program trends and predictors;

4. Information on the use and effectiveness of the CN COVID-19 waivers.

Description of Respondents: State, local, and Tribal government.

Number of Respondents: 1,342.

Frequency of Responses: Reporting: On occasion.

Total Burden Hours: 2,031.

Ruth Brown,
Departmental Information Collection Clearance Officer.

[FR Doc. 2023-15813 Filed 7-25-23; 8:45 am]

BILLING CODE 3410-30-P